DEPARTMENT OF AGRICULTURE

Animal and Plant Health Inspection Service

7 CFR Part 301

[Docket No. 02-037-1]

Karnal Bunt; Regulated Areas

AGENCY: Animal and Plant Health Inspection Service, USDA.

ACTION: Interim rule and request for comments.

SUMMARY: We are amending the Karnal bunt regulations to make changes to the list of areas or fields regulated because of Karnal bunt, a fungal disease of wheat. We are adding certain areas in Arizona and Texas to the list of regulated areas either because they were found during surveys to contain a bunted wheat kernel, or because they are within the 3-mile-wide buffer zone around fields or areas affected with Karnal bunt. We are also removing certain individual fields and other areas from the list of regulated areas in Arizona, New Mexico, and Texas, either because recently completed detection and delineating surveys show them to be free of Karnal bunt, or because they have not been used to produce Karnal bunt host crops within the last 5 years, or because they have been used to produce Karnal bunt host crops in 1 or more years following initial regulation and the crops have been tested and found free of Karnal bunt. These actions are necessary to help prevent the spread of Karnal bunt into noninfected areas of the United States, and to relieve restrictions that are no longer warranted.

DATES: This interim rule is effective October 3, 2002. We will consider all comments that we receive on or before December 2, 2002.

ADDRESSES: You may submit comments by postal mail/commercial delivery or by e-mail. If you use postal mail/commercial delivery, please send four copies of your comment (an original and three copies) to: Docket No. 02-037-1, Regulatory Analysis and Development, PPD, APHIS, Station 3C71, 4700 River Road Unit 118, Riverdale, MD 20737-1238. Please state that your comment refers to Docket No. 02-037-1. If you use e-mail, address your comment to regulations@aphis.usda.gov. Your comment must be contained in the body of your message; do not send attached files. Please include your name and address in your message and “Docket No. 02-037-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Robert G. Spaide, Senior Program Manager, Surveillance and Emergency Programs Planning and Coordination, PPQ, APHIS, 4700 River Road Unit 134, Riverdale, MD 20737-1236; (301) 734-7819.

SUPPLEMENTARY INFORMATION:

Background

Karnal bunt is a fungal disease of wheat (Triticum aestivum), durum wheat (Triticum durum), and triticale (Triticum aestivum X Secale cereale), a hybrid of wheat and rye. Karnal bunt is caused by the smut fungus Tilletia indica (Mitra) Mundkur and is spread primarily through the movement of infected seed. Some countries in the international wheat market regulate Karnal bunt as a fungal disease requiring quarantine; therefore, without measures taken by the Animal and Plant Health Inspection Service (APHIS), United States Department of Agriculture, to prevent its spread, the presence of Karnal bunt in the United States could have significant consequences with regard to the export of wheat to international markets.

Upon detection of Karnal bunt in Arizona in March of 1996, Federal quarantine and emergency actions were imposed to prevent the interstate spread of the disease to other wheat producing areas in the United States. The quarantine continues in effect, although it has since been modified, both in terms of its physical boundaries and in terms of its restrictions on the production and movement of regulated articles from regulated areas. The regulations regarding Karnal bunt are set forth in 7 CFR 301.89-1 through 301.89-16 (referred to below as the regulations).

Regulated Areas

The regulations in § 301.89-3(e) provide that we will classify a field or area as a regulated area when it is:

• A field planted with seed from a lot found to contain a bunted wheat kernel;

• A distinct definable area that contains at least one field that was found during a survey to contain a bunted wheat kernel. The distinct definable area may include an area where Karnal bunt is not known to exist but where intensive surveys are required because of the areas's proximity to a field found during survey to contain a bunted wheat kernel; or

• A distinct definable area that contains at least one field that was found during survey to contain spores consistent with Karnal bunt and has been determined to be associated with grain at a handling facility containing a bunted wheat kernel. The distinct definable area may include an area where Karnal bunt is not known to exist but where intensive surveys are required because of that area's proximity to a field that has been associated with grain at a handling facility containing a bunted wheat kernel.

The boundaries of distinct definable areas are determined using the criteria in paragraphs (b) through (d) of § 301.89-3, which provide for the regulation of less than an entire State, the inclusion of noninfected acreage in a regulated area, and the temporary designation of nonregulated areas as regulated areas. Paragraph (c) of § 301.89-3 states that the Administrator may include noninfected acreage within a regulated area due to its proximity to an infestation or inseparability from the infected locality for regulatory purposes, as determined by:

• Projections of the spread of Karnal bunt along the periphery of the infestation;

• The availability of natural habitats and host materials within the noninfected acreage that are suitable for establishment and survival of Karnal bunt; and

• The necessity of including noninfected acreage within the regulated area in order to establish readily identifiable boundaries.

When we include noninfected acreage in a regulated area for one or more of the reasons previously listed, the noninfected acreage, along with the rest of the acreage in the regulated area, is intensively surveyed. Negative results from surveys of the noninfected acreage provide assurance that all infected acreage is within the regulated area. In effect, the noninfected acreage serves as a buffer zone between fields or areas affected with Karnal bunt and areas outside of the regulated area.

The regulations in § 301.89-3(f) describe the boundaries of the regulated areas in Arizona, California, New Mexico, and Texas. Certain regulated areas in Arizona, California, and Texas include noninfected acreage that functions as a buffer zone to guard against the spread of Karnal bunt. Our current policy is to utilize a 3-mile-wide buffer zone around fields or areas affected with Karnal bunt. Based on over 5 years of experience surveying noninfected acreage included in regulated areas, we have determined that a buffer zone of no more than 3 miles is sufficient.

In this interim rule, we are amending § 301.89-3(f) by modifying the list of regulated areas associated with Karnal bunt. Specifically, we are adding certain areas in Arizona and Texas to the list of regulated areas either because the fields or areas were found during detection and delineating surveys to contain a bunted wheat kernel, or because the fields or areas fall within the 3-mile-wide buffer zone around fields or areas affected with Karnal bunt. This action is necessary in order to help prevent the spread of Karnal bunt into noninfected areas of the United States.

As part of this same rule, we are also removing certain individual fields and other areas from the list of regulated areas in Arizona, New Mexico, and Texas, either because recently completed detection and delineating surveys show them to be free of Karnal bunt, or because they have not been used to produce Karnal bunt host crops within the last 5 years, or because they have been used to produce Karnal bunt host crops in 1 or more years following initial regulation and the crops have been tested and found free of Karnal bunt. This action relieves restrictions on those fields or areas that are no longer warranted.

Arizona

The list of regulated areas in Arizona includes individual fields and other distinct definable areas located in La Paz, Maricopa, Pinal, and Yuma Counties. In this interim rule, we are adding new regulated areas in Maricopa and Pinal Counties due to the detection of bunted wheat kernels there or as a result of the application of the 3-mile-wide buffer zone around fields or areas affected with Karnal bunt. These additional regulated areas in Maricopa and Pinal Counties involve approximately 18,852 agricultural acres (310 fields) and 86,439 nonagricultural acres.

We are also removing from the list of regulated areas in Arizona a total of 73 individual fields totaling 3,376 acres located in the counties of Maricopa (39 fields), Pinal (3 fields), and Yuma (31 fields). These fields had been designated as regulated areas because they were planted, in 1996, with seed that was potentially contaminated with Karnal bunt. We now are removing these 73 fields from the list of regulated areas either because they have not been used to produce Karnal bunt host crops within the last 5 years or because they have been used to produce Karnal bunt host crops in 1 or more years following initial regulation and the crops produced have been tested and found free of Karnal bunt. With the deregulation of the 31 fields in Yuma County, this county will no longer contain any regulated areas.

Overall, the changes in Arizona will result in the amount of regulated agricultural acreage increasing to a total of approximately 465,000 acres.

New Mexico

The list of regulated areas in New Mexico include 98 individual fields located in the counties of Dona Ana (41 fields), Hidalgo (2 fields), Luna (22 fields), and Sierra (33 fields). In this interim rule, we are removing all 98 of these fields from the list of regulated areas. Similar to the situation in Arizona discussed above, these fields in New Mexico had been designated as regulated areas because they were planted, in 1996, with seed that was potentially contaminated with Karnal bunt. We are removing these individual fields from the list of regulated areas either because they have not been used to produce Karnal bunt host crops within the last 5 years or because they have been used to produce Karnal bunt host crops in 1 or more years following initial regulation and the crops produced have been tested and found free of Karnal bunt. With the deregulation of these 98 fields, the State of New Mexico will no longer contain any regulated areas.

Texas

The list of regulated areas in Texas includes individual fields and other distinct definable areas located in Archer, Baylor, El Paso, Hudspeth, McCulloch, San Saba, Throckmorton, and Young Counties. We are making changes to the list of regulated areas in Archer, Baylor, Throckmorton, and Young Counties as a result of recently completed detection and delimiting surveys in this four-county area. In 2001, bunted wheat kernels were detected in wheat produced in each of these counties. Since the detection of bunted wheat kernels occurred late in the harvesting season, there was not an opportunity to complete survey work to determine the extent of this new infection. Therefore, we designated the entire county area in each of the four counties as a regulated area in order to include all fields that would have a reasonable possibility of being infected.

We recently completed detection and delimiting surveys in Archer, Baylor, Throckmorton, and Young Counties and are amending the description of the regulated areas in these four counties to better reflect those fields or areas affected by Karnal bunt. In modifying the boundaries of the regulated areas, we are deregulating a total of 420,261 acres (6,466 fields) in the four-county area. However, we are also adding as a new regulated area 1,560 acres (24 fields) in Knox County, which is adjacent to Baylor County. The acreage in Knox County is being added to the list of regulated areas as a result of the application of the 3-mile-wide buffer zone around an area affected with Karnal bunt in Baylor County.

We also are adding certain areas in McCulloch and San Saba Counties to the list of regulated areas in Texas either because of the detection of bunted wheat kernels in those areas or because of the application of the 3-mile-wide buffer zone around those fields or areas affected with Karnal bunt. These additional regulated areas consist of 523 acres (11 fields) in McCulloch County and 2,983 acres (69 fields) in San Saba County.

We are also removing from the list of regulated areas in Texas 25 individual fields totaling 494 acres in the counties of El Paso (21 fields) and Hudspeth (4 fields). Similar to the situations in Arizona and New Mexico discussed above, these particular fields had been designated as regulated areas because they were planted, in 1996, with seed that was potentially contaminated with Karnal bunt. We now are deregulating these fields either because they have not been used to produce Karnal bunt host crops within the last 5 years or because they have been used to produce Karnal bunt host crops in 1 or more years following initial regulation and the crops produced have been tested and found free of Karnal bunt. With the removal of these 25 fields, El Paso and Hudspeth Counties will no longer contain any regulated areas.

Overall, as a result of the changes in this interim rule, the amount of regulated agricultural acreage in Texas will decline by about 60 percent to approximately 285,000 acres.

Emergency Action

This rulemaking is necessary on an emergency basis to help prevent Karnal bunt from spreading into to noninfected areas of the United States. This rule will also relieve restrictions on certain fields or areas that are no longer warranted. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

In this interim rule, we are modifying the list of areas regulated because of Karnal bunt. Specifically, certain distinct definable areas in Arizona and Texas are being added to the list of regulated areas either because the fields or areas were found to contain a bunted wheat kernel, or because the fields or areas fall within the 3-mile-wide buffer zone around fields or areas affected with Karnal bunt. We are also removing certain individual fields and other areas from the list of regulated areas in Arizona, New Mexico, and Texas, either because recently completed detection and delineating surveys show them to be free of Karnal bunt, or because they have not been used to produce Karnal bunt host crops within the last 5 years, or because they have been used to produce Karnal bunt host crops in 1 or more years following initial regulation and the crops have been tested and found free of Karnal bunt. These actions will help prevent the spread of Karnal bunt into noninfected areas of the United States, as well as relieve restrictions on certain areas and fields that are no longer warranted. These actions also will reduce the total regulated area by 316,687 acres.

The Regulatory Flexibility Act requires that agencies consider the economic effects of their rules on small businesses, organizations, and governmental jurisdictions. The entities most likely to be affected by this interim rule are wheat producers whose fields have been added to the list of regulated areas, as well as producers whose fields have been removed from the list of regulated areas and who plan to grow wheat in the future. The exact number of such producers is unknown, but no more than about 500 producers are likely to be affected by this interim rule. For the reasons discussed below, we do not expect this rule to have a significant economic effect on affected producers.

Producers affected by this interim rule are likely to be small in size based on U.S. Small Business Administration (SBA) standards for wheat farmers, as well as data from the 1997 Census of Agriculture (1997 Census), which is the most recent census available. The SBA classifies wheat producers with total annual sales of less than $750,000 as small entities. According to 1997 Census data, there were a total of 6,135 farms in Arizona in 1997. (This total includes, but is not limited to, wheat farms.) Of the total number of farms in Arizona, 89 percent had annual sales that year of less than $500,000, well below the SBA's small entity threshold of $750,000 for wheat farms. Similarly, the percentages of farms with annual sales of less than $500,000 in New Mexico (14,094 total farms) and Texas (194,301 total farms) were 97 percent and 98 percent, respectively.

Producers whose fields are being deregulated will benefit from this rule because they will be able to move wheat without restriction. Prior to this rule, any wheat grain grown in those fields could be moved to nonregulated areas under a certificate only if it tested negative for bunted kernels, and any positive-testing wheat could be moved only under limited permit and subject to certain restrictions. Commercial wheat seed grown in those fields could not be moved at all to nonregulated areas. Conversely, wheat producers whose fields are being regulated will be adversely affected, because they will be subject to those movement restrictions.

However, the effect of the interim rule on individual producers is not likely to be significant for several reasons. First, the testing of grain for Karnal bunt is already performed free of charge for producers in all regulated areas. For producers of wheat grain in the affected fields, therefore, the elimination (or imposition) of the testing requirement is a matter of inconvenience only, not a financial issue. Second, very little commercial wheat seed is, or is expected to be, grown in the affected fields. Because of that, the elimination (or imposition) of restrictions on moving seed is expected to have, at most, only a minimal effect on producers.

The elimination (or imposition) of restrictions will increase (or restrict) marketing opportunities for producers, with impacts on prices received by individual producers. Those producers whose fields are deregulated may enjoy increased market opportunities for their wheat (e.g., the availability of export markets) and receive a higher commodity price. Alternatively, those producers whose fields are newly regulated may see the market for their wheat become more limited and receive a lower price. For producers in their first regulated crop season, such negative price-received effects will be mitigated by compensation for losses. Therefore, the net effect on producer revenues in the newly regulated areas is not likely to be significant. In subsequent regulated crop seasons, producers will incorporate the risk of Karnal bunt infestation into their planting decisions.

It is also possible that this interim rule will serve to boost U.S. wheat exports to those countries with Karnal bunt restrictions that only recognize area freedom from Karnal bunt at the county level or above. As a result of this interim rule, producers in Yuma County, AZ, El Paso and Hudspeth Counties, TX, and from anywhere in the State of New Mexico would be eligible to export grain to countries with such restrictions. Conversely, since a portion of Knox County, TX, is being added to the list of regulated areas for the first time, Karnal bunt host crops produced in Knox County may no longer be eligible for export to those countries that recognize area freedom only at the county level or above. We expect that despite these changes, the effect of this interim rule on U.S. wheat exports is not likely to be significant.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

2. In § 301.89-3, paragraph (f) is amended as follows:

a. Under the heading “Arizona,” by revising the entries for Maricopa County and Pinal County to read as set forth below, and by removing the entry for Yuma County.

b. By removing the heading “New Mexico” and the entries for Dona Ana, Hidalgo, Luna, and Sierra Counties.

c. Under the heading “Texas,” by revising the entries for Archer, Baylor, McCulloch, San Saba, Throckmorton, and Young Counties to read as set forth below; by adding, in alphabetical order, an entry for Knox County to read as set forth below; and by removing the entries for El Paso and Hudspeth Counties.

§ 301.89-3 Regulated areas.

* * * * *

(f) * * *

Arizona

* * * * *

Maricopa County. (1) Beginning at the southeast corner of sec. 28, T. 1 S., R. 2 E.; then west to the southwest corner of sec. 30, T. 1 S., R. 2 E.; then north to the southeast corner of sec. 24, T. 1 S., R. 1 E.; then west to the southwest corner of sec. 24, T. 1 S., R. 1 E.; then north to the northwest corner of sec. 24, T. 1 S., R. 1 E.; then west to the southwest corner of sec. 14, T. 1 S., R. 1 E.; then north to the northwest corner of sec. 14, T. 1 S., R. 1 E.; then west to the southwest corner of sec. 9, T. 1 S., R. 1 E.; then north to the northwest corner of sec. 9, T. 1 S., R. 1 E.; then west to the southwest corner of sec. 5, T. 1 S., R. 1 E.; then north to the northwest corner of sec. 5, T. 1 S., R. 1 E.; then west to the northeast corner of sec. 6, T. 1 S., R. 1 W.; then south to the southeast corner of sec. 7, T. 1 S., R. 1 W.; then west to the northeast corner of sec. 14, T. 1 S., R. 2 W.; then south to the southeast corner of sec. 14, T. 1 S., R. 2 W.; then west to the northeast corner of sec. 20, T. 1 S., R. 2 W.; then south to the southeast corner of sec. 20, T. 1 S., R. 2 W.; then west to the northeast corner of sec. 29, T. 1 S., R. 3 W.; then south to the southeast corner of sec. 29, T. 1 S., R. 3 W.; then west to the southwest corner of sec. 27, T. 1 S., R. 4 W.; then north to the northwest corner of sec. 27, T. 1 S., R. 4 W.; then west to the southwest corner of sec. 24, T. 1 S., R. 5 W.; then north to the northwest corner of sec. 24, T. 1 S., R. 5 W.; then west to the southwest corner of sec. 14, T. 1 S., R. 5 W.; then north to the northwest corner of sec. 14, T. 1 N., R. 5 W.; then east to the southwest corner of sec. 7, T. 1 N., R. 2 W.; then north to the northwest corner of sec. 7, T. 1 N., R. 2 W.; then east to the northeast corner of sec. 7, T. 1 N., R. 2 W.; then north to the northwest corner of sec. 5, T. 1 N., R. 2 W.; then east to the northeast corner of sec. 5, T. 1 N., R. 2 W.; then north to the northwest corner of sec. 28, T. 2 N., R. 2 W.; then east to the northeast corner of sec. 28, T. 2 N., R. 2 W.; then north to the northwest corner of sec. 3, T. 3 N., R. 2 W.; then east to the northeast corner of sec. 1, T. 3 N., R. 1 W.; then south to the northwest corner of sec. 19, T. 3 N., R. 1 E.; then east to the northeast corner of sec. 23, T. 3 N., R. 1 E.; then south to the northwest corner of sec. 1, T. 2 N., R. 1 E.; then east to the northeast corner of sec. 1, T. 2 N., R. 1 E.; then south to the northwest corner of sec. 6, T. 1 N., R. 2 E.; then east to the northeast corner of sec. 4, T. 1 N., R. 2 E.; then south to the northwest corner of sec. 15, T. 1 N., R. 2 E.; then east to the northeast corner of sec. 13, T. 1 N., R. 2 E.; then south to the southeast corner of sec. 12, T. 1 S., R. 2 E.; then west to the northeast corner of sec. 16, T. 1 S., R. 2 E.; then south to the point of beginning.

(2) Beginning at the intersection of the Maricopa/Pinal County line and the southwest corner of sec. 31, T. 2 S., R. 5 E.; then north to the southeast corner of sec. 25, T. 2 S., R. 5 E.; then west to the southwest corner of sec. 25, T. 2 S., R. 5 E.; then north to the northwest corner of sec. 24, T. 2 S., R. 4 E.; then west to the southwest corner of sec. 15, T. 2 S., R. 4 E.; then north to the northwest corner of sec. 3, T. 2 S., R. 4 E.; then east to the southwest corner of sec. 35, T. 1 S., R. 4 E.; then north to the northwest corner of sec. 35, T. 1 S., R. 4 E.; then east to the northeast corner of sec. 33, T. 1 S., R. 5 E.; then north to the northwest corner of sec. 22, T. 1 S., R. 5 E.; then east to the northeast corner of sec. 19, T. 1 S., R. 6 E.; then north to the northwest corner of sec. 8, T. 1 S., R. 6 E.; then east to the southwest corner of sec. 3, T. 1 S., R. 6 E.; then north to the northwest corner of sec. 3, T. 1 S., R. 6 E.; then east to the northeast corner of sec. 2, T. 1 S., R. 6 E.; then south to the southeast corner of sec. 2, T. 1 S., R. 6 E.; then east to the northeast corner of sec. 7, T. 1 S., R. 7 E.; then south to the northwest corner of sec. 5, T. 2 S., R. 7 E.; then east to the northeast corner of sec. 3, T. 2 S., R. 7 E.; then south to the southeast corner of sec. 3, T. 2 S., R. 7 E.; then east to the intersection of the northeast corner of sec. 12, T. 2 S., R. 7 E. and the Maricopa/Pinal County line; then south along the Maricopa/Pinal County line to the southeast corner of sec. 36, T. 2 S, R. 7 E.; then east along the Maricopa/Pinal County line to the point of beginning.

(3) Beginning at the southeast corner of sec. 30, T. 6 S., R. 5 W.; then west to the northeast corner of sec. 33, T. 6 S., R. 6 W.; then south to the southeast corner of sec. 33, T. 6 S., R. 6 W.; then west to the southwest corner of sec. 36, T. 6 S., R. 7 W.; then north to the northwest corner of sec. 36, T. 6 S., R. 7 W.; then west to the southwest corner of sec. 26, T. 6 S., R. 7 W.; then north to the northwest corner of sec. 23, T. 6 S., R. 7 W.; then west to the southeast corner of sec. 18, T. 6 S., R. 7 W.; then north to the northeast corner of sec. 6, T. 6 S., R. 7 W.; then west to the southeast corner of sec. 31, T. 5 S., R. 7 W.; then north to the northwest corner of sec. 29, T. 5 S., R. 7 W.; then east to the northwest corner of sec. 28, T. 5 S., R. 7 W.; then east to the southwest corner of sec. 22., T. 5 S., R. 7 W.; then north to the northwest corner of sec. 22, T. 5 S., R. 7 W.; then east to the southwest corner of sec. 14, T. 5 S., R. 7 W.; then north to the northwest corner of sec. 14, T. 5 S., R. 7 W.; then east to the northeast corner of sec. 14, T. 5 S., R. 6 W.; then south to the southeast corner of sec. 14, T. 5 S., R. 6 W.; then east to the northeast corner of sec. 24, T. 5 S., R. 6 W.; then south to the southeast corner of sec. 24, T. 5 S., R. 6 W.; then east to the northeast corner of sec. 30, T. 5 S., R. 5 W.; then south to the southeast corner of sec. 30, T. 5 S., R. 5 W.; then east to the northeast corner of sec. 32, T. 5 S., R. 5 W.; then south to the southeast corner of sec. 32, T. 5 S., R. 5 W.; then east to the northeast corner of sec. 5, T. 6 S., R. 5 W.; then south to the southeast corner of sec. 20, T. 6 S., R. 5 W.; then west to the northeast corner of sec. 30, T. 6 S., R. 5 W.; then south to the point of beginning.

(4) Beginning at the southeast corner of sec. 34, T. 2 N., R. 5 E.; then west to the southwest corner of sec. 31, T. 2 N., R. 5 E.; then north to the northwest corner of sec. 7, T. 2 N., R. 5 E.; then east to the northeast corner of sec. 10, T. 2 N., R. 5 E.; then south to the point of beginning.

Pinal County. (1) Beginning at the intersection of the Maricopa/Pinal County line and the northwest corner of sec. 7, T. 2 S., R. 8 E.; then east to the northeast corner of sec. 8, T. 2 S., R. 8 E.; then south to the southeast corner of sec. 8, T. 2 S., R. 8 E.; then east to the northeast corner of sec. 16, T. 2 S., R. 8 E.; then south to the southeast corner of sec. 28, T. 2 S., R. 8 E.; then west to the northeast corner of sec. 32, T. 2 S., R. 8 E.; then south to the southeast corner of sec. 32, T. 2 S., R. 8 E.; then west to the Maricopa/Pinal County line; then north along the Maricopa/Pinal County line to the point of beginning.

(2) Beginning at the intersection of the Maricopa/Pinal County line and the northeast corner of sec. 2, T. 3 S., R. 7 E.; then south to the southeast corner of sec. 2, T. 3 S., R. 7 E.; then west to the northeast corner of sec. 9, T. 3 S., R. 6 E.; then south to the southeast corner of sec. 4, T. 4 S., R. 6 E.; then west to the southwest corner of sec. 5, T. 4 S., R. 6 E.; then north to the northwest corner of sec. 5, T. 4 S., R. 6 E.; then west to the southwest corner of sec. 34, T. 3 S., R. 5 E.; then north to the northwest corner of sec. 10, T. 3 S., R. 5 E.; then west to the southwest corner of sec. 6, T. 3 S., R. 5 E.; then north to the intersection of the northwest corner of sec. 6, T. 3 S., R. 5 E. and the Maricopa/Pinal County line; then east along the Maricopa/Pinal County line to the point of beginning.

(3) Beginning at the southeast corner of sec. 5, T. 6 S., R. 4 E.; then west to the southwest corner of sec. 5, T. 6 S., R. 3 E.; then north to the northwest corner of sec. 5, T. 6 S., R. 3 E.; then west to the southwest corner of sec. 32, T. 5 S., R. 3 E.; then north to the northwest corner of sec. 32, T. 5 S., R. 3 E.; then west to the southwest corner of sec. 30, T. 5 S., R. 3 E.; then north to the southeast corner of sec. 25, T. 5 S., R. 2 E.; then west to the southwest corner of sec. 25, T. 5 S., R. 2 E.; then north to the northwest corner of sec. 25, T. 5 S., R. 2 E.; then west to the southwest corner of sec. 23, T. 5 S., R. 2 E.; then north to the northwest corner of sec. 35, T. 4 S., R. 2 E.; then east to the northeast corner of sec. 35, T. 4 S., R. 2 E.; then north to the northwest corner of sec. 25, T. 4 S., R. 2 E.; then east to the southwest corner of sec. 20, T. 4 S., R. 3 E.; then north to the northwest corner of sec. 20, T. 4 S., R. 3 E.; then east to the northeast corner of sec. 21, T. 4 S., R. 4 E.; then south to the northwest corner of sec. 34, T. 4 S., R. 4 E.; then east to the northeast corner of sec. 35, T. 4 S., R. 4 E.; then south to the northwest corner of sec. 1, T. 5 S., R. 4 E.; then east to the northeast corner of sec. 1, T. 5 S., R. 4 E.; then south to the southeast corner of sec. 1, T. 5 S., R. 4 E.; then west to the northeast corner of sec. 12, T. 5 S, R. 4 E.; then south to the southeast corner of sec. 24, T. 5 S., R. 4 E.; then west to the southwest corner of sec. 24, T. 5 S., R. 4 E.; then south to the northeast corner of sec. 35, T. 5 S., R. 4 E.; then west to the northwest corner of sec. 35, T. 5 S., R. 4 E.; then south to the southeast corner of sec. 37, T. 5 S., R. 4 E.; then west to the northeast corner of sec. 48, T. 5 S., R. 4 E.; then south to the southeast corner of sec. 49, T. 5 S., R. 4 E.; then west to the northeast corner of sec. 5, T. 6 S., R. 4 E.; then south to the point of beginning.

(4) The following individual fields in Pinal County are regulated areas: 309021801, 309021804, 309021812, 309031304, 309033507, 309042544, 309042545, 309042601, 309042607, 309042619, 309042620, 309042621, 309050104, 309050109, 309050122, 309050207, 309050209.

* * * * *

Texas

Archer County. (1) Beginning at the intersection of the line of longitude −98.5457° W. and the line of latitude 33.6656° N.; then east along the line of latitude 33.6656° N. to the line of longitude −98.4380° W.; then south along the line of longitude −98.4380° W. to the line of latitude 33.5763° N.; then west along the line of latitude 33.5763° N. to the line of longitude −98.5457° W.; then north along the line of longitude −98.5457° W. to the point of beginning.

(2) Beginning at the intersection of the Archer/Baylor County line and the line of latitude 33.4051° N.; then east along the line of latitude 33.4051° N. to the line of longitude −98.9345° W.; then north along the line of longitude −98.9345° W. to the line of latitude 33.4570° N.; then east along the line of latitude 33.4570° N. to the line of longitude −98.8227° W.; then south along the line of longitude −98.8227° W. to the Archer/Young County line; then west along the Archer/Young County line to the Archer/Baylor County line; then north along the Archer/Baylor County line to the point of beginning.

(3) Beginning at the intersection of the Archer/Young County line and the line of longitude −98.7926° W.; then north along the line of longitude −98.7926° W. to the line of latitude 33.3978° N.; then east along the line of latitude 33.3978° N. to the line of longitude −98.6870° W.; then south along the line of longitude −98.6870° W. to the Archer/Young County line; then west along the Archer/Young County line to the point of beginning.

Baylor County. (1) Beginning at the intersection of the line of longitude −99.1633° W. and the line of latitude 33.8148° N.; then east along the line of latitude 33.8148° N. to the line of longitude −99.0436° W.; then south along the line of longitude −99.0436° W. to the line of latitude 33.7143° N.; then west along the line of latitude 33.7143° N. to the line of longitude −99.1633° W.; then north along the line of longitude −99.1633°W. to the point of beginning.

(2) Beginning at the intersection of the Baylor/Knox County line and the line of latitude 33.6751° N.; then east along the line of latitude 33.6751° N. to the line of longitude −99.3831° W.; then south along the line of longitude −99.3831° W. to the line of latitude 33.6505° N.; then east along the line of latitude 33.6505° N. to the line of longitude −99.2542° W.; then south along the line of longitude −99.2542° W. to the line of latitude 33.5598° N.; then west along the line of latitude 33.5598° N. to the line of longitude −99.3139° W.; then south along the line of longitude −99.3139° W. to the line of latitude 33.4542° N.; then west along the line of latitude 33.4542° N. to the line of longitude −99.4276° W.; then north along the line of longitude −99.4276° W. to the line of latitude 33.5284° N.; then west along the line of latitude 33.5284° N. to the Baylor/Knox County line; then north along the Baylor/Knox County line to the point of beginning.

(3) Beginning at the intersection of the Baylor/Throckmorton County line and the line of longitude −99.1271° W.; then north along the line of longitude −99.1271° W. to the line of latitude 33.4445° N.; then east along the line of latitude 33.4445° N. to the line of longitude −99.0189° W.; then south along the line of longitude −99.0189° W. to the line of latitude 33.4051° N.; then east along the line of latitude 33.4051° N. to the Baylor/Archer County line; then south along the Baylor/Archer County line to the Baylor/Throckmorton County line; then west along the Baylor/Throckmorton County line to the point of beginning.

Knox County. Beginning at the intersection of the Knox/Baylor County line and the line of latitude 33.5284° N.; then west along the line of latitude 33.5284°N. to the line of longitude −99.4962° W.; then north along the line of longitude −99.4962° W. to the line of latitude 33.5802° N.; then west along the line of latitude 33.5802° N. to the line of longitude −99.4971° W.; then north along the line of longitude −99.4971° W. to the line of latitude 33.6751° N.; then east along the line of latitude 33.6751° N. to the Knox/Baylor County line; then south along the Knox/Baylor County line to the point of beginning.

McCulloch County. Beginning at the intersection of the McCulloch/San Saba County line and the line of latitude 31.2147° N.; then west along the line of latitude 31.2147° N. to the line of longitude 99.1818° W.; then north along the line of longitude 99.1818° W. to the line of latitude 31.3455° N.; then east along the line of latitude 31.3455° N. to the line of longitude 99.1860° W.; then north along the line of longitude 99.1860° W. to the line of latitude 31.4464° N.; then east along the line of latitude 31.4464° N. to the McCulloch/San Saba County line; then south along the McCulloch/San Saba County line to the point of beginning.

San Saba County. (1) Beginning at the intersection of the San Saba/Mills County line and the line of longitude −98.5851° W.; then south along the line of longitude −98.5851° W. to the line of latitude 31.1301° N.; then west along the line of latitude 31.1301° N. to the line of longitude −98.9463° W.; then north along the line of longitude −98.9463° W. to the line of latitude 31.3299° N.; then east along the line of latitude 31.3299° N. to the San Saba/Mill County line; then south along the San Saba/Mill County line to the point of beginning.

(2) Beginning at the intersection of the San Saba/McCulloch County line and the line of latitude 31.4474° N.; then east along the line of latitude 31.4474° N. to the line of longitude −99.9922° W.; then south along the line of longitude −99.9922° W. to the line of latitude 31.2147° N.; then west along the line of latitude 31.2147° N. to the San Saba/McCulloch County line; then north along the San Saba/McCulloch County line to the point of beginning.

Throckmorton County. Beginning at the intersection of the Throckmorton/Young County line and the line of latitude 33.1810° N.; then west along the line of latitude 33.1810° N. to the line of longitude −98.9922° W.; then north along the line longitude −98.9922° W. to the line of latitude 33.2175° N.; then west along the line of latitude 33.2175° N. to the line of longitude −99.0837° W.; then north along the line of longitude −99.0837° W. to the line of latitude 33.3073° N.; then east along the line of latitude 33.3073° N. to the line of longitude −99.0531° W.; then north along the line of longitude −99.0531° W. to the line of latitude 33.3535° N.; then west along the line of latitude 33.3535° N. to the line of longitude −99.1271°W.; then north along the line of longitude −99.1271°W. to the Throckmorton/Baylor County line; then east along the Throckmorton/Baylor County line to the Throckmorton/Young County line; then south along the Throckmorton/Young County line to the point of beginning.

Young County. (1) Beginning at the intersection of the Young/Archer County line and the line of longitude −98.8228° W.; then south along the line of longitude −98.8228° W. to the line of latitude 33.3600° N.; then west along the line of latitude 33.3600° N. to the line of longitude −98.9410° W.; then south along the line of longitude −98.9410° W. to the line of latitude 33.3001° N.; then east along the line of latitude 33.3001° N. to the line of longitude −98.8884° W.; then south along the line of longitude −98.8884° W. to the line of latitude 33.2878° N.; then east along the line of latitude 33.2878° N. to the line of longitude −98.8355° W.; then south on the line of longitude −98.8355° W. to the line of latitude 33.2552° N.; then east along the line of latitude 33.2552° N. to the line of longitude −98.7856° W.; then south along the line of longitude −98.7856° W. to the line of latitude 33.2237° N.; then east along the line of latitude 33.2237° N. to the line of longitude −98.7065° W.; then south along the line of longitude −98.7065° W. to the line of latitude 33.1329° N.; then west along the line of latitude 33.1329° N. to the line of longitude −98.8250° W.; then north along the line of longitude −98.8250° W. to the line of latitude 33.1484° N.; then west along the line of latitude 33.1484° N. to the line of longitude −98.9312° W.; then north along the line of longitude −98.9312° W. to the line of latitude 33.1810° N.; then west along the line of latitude 33.1810° N. to the Young/Throckmorton County line; then north along the Young/Throckmorton County line to the Young/Archer County line; then east along the Young/Archer County line to the point of beginning.

(2) Beginning at the intersection of the Young/Archer County line and the line of longitude −98.6851° W.; then south along the line of longitude −98.6851° W. to the line of latitude 33.3053° N.; then west along the line of latitude 33.3053° N. to the line of longitude −98.7906° W.; then north along the line of longitude −98.7906° W. to the line of latitude 33.3069° N.; then west along the line of latitude 33.3069° N. to the line of longitude −98.7926° W.; then north along the line of longitude −98.7926° W. to the Young/Archer County line; then east along the Young/Archer County line to the point of beginning.

Done in Washington, DC, this 27th day of September 2002 .
Peter Fernandez,
Acting Administrator, Animal and Plant Health Inspection Service.

[FR Doc. 02-25160 Filed 10-2-02; 8:45 am]

BILLING CODE 3410-34-P